ENVIRONMENTAL PROTECTION AGENCY

[EPA-HQ-OPP-2009-1017; FRL-9351-7]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless a registrant withdraws its request. If these requests are granted, any sale, distribution, or use of products listed in this notice will be permitted after the registrations have been cancelled only if such sale, distribution, or use is consistent with the terms as described in the final order.

DATES: Comments must be received on or before July 13, 2012.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave., NW., Washington, DC 20460-0001.

• Hand Delivery: To make special arrangements for hand delivery or delivery of boxed information, please follow the instructions at http://www.epa.gov/dockets/contacts.htm, http://www.epa.gov/dockets/contacts.htm.

Additional instructions on commenting or visiting the docket, along with more information about dockets generally, is available at http://www.epa.gov/dockets.

FOR FURTHER INFORMATION CONTACT: Katie Weyrauch, Pesticide Re-evaluation Division (7508P), Office of Pesticide Programs, Environmental Protection Agency, 1200 Pennsylvania Ave. NW., Washington, DC 20460-0001; telephone number: (703) 308-0166; email address: weyrauch.katie@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 122 pesticide products registered under FIFRA section 3 or 24(c). These registrations are listed in sequence by registration number (or company number and 24(c) number) in Tables 1 and 2 of this unit.

Table 2 contains a list of registrations for which companies paying at one of the maintenance fee caps requested cancellation in the FY 2012 maintenance fee billing cycle. Because maintaining these registrations as active would require no additional fee, the Agency is treating these requests as voluntary cancellations under 6(f)(1).

Unless the Agency determines that there are substantive comments that warrant further review of the requests or the registrants withdraw their requests, EPA intends to issue an order in the Federal Register canceling all of the affected registrations.

Table 1—Registrations With Pending Requests for Cancellation
Registration No. | Product name | Chemical name
000056-00068 | Eaton's Answer II | Piperonyl butoxide, Pyrethrins, Silicon Dioxide.
000279-03106 | Command 50 WP Herbicide | Clomazone.
000402-00123 | No. 2306 Di-Cide | Poly(oxy-1,2-ethanediyl(dimethylimino)-1,2-ethanediyl(dimethylimino)-1,2-ethanediyl dichloride).
000577-00545 | Clear Cuprinol Brand Wood Preservative No. 20 | Zinc naphthenate.
000707-00286 | Durotex 5000 | Octhilinone, 5-Chloro-2-methyl-3(2H)-isothiazolone, 2-Methyl-3(2H)-isothiazolone.
000748-06010 | Liquid Chlorine | Chlorine.
000748-06011 | Liquid Chlorine MU | Chlorine.
001706-00159 | Nalco 2594 | Poly(oxy-1,2-ethanediyl(dimethylimino)-1,2-ethanediyl(dimethylimino)-1,2-ethanediyl dichloride).
002724-00457 | Zoecon 9204 Fogger | Permethrin, 2,4-Dodecadienoic acid, 3,7,11-trimethyl-, ethyl ester, (S-(E,E))-.
002724-00780 | Permethrin Plus Inverted Carpet Spray | MGK 264, Permethrin, Pyriproxyfen.
002749-00119 | Tributyl Tin Oxide | Tributyltin oxide.
005481-00434 | Tre-Hold for Citrus | Ethyl 1-naphthaleneacetate.
010088-00086 | Flying Insect Killer | d-trans-Chrysanthemum monocarboxylic ester of dl-2-allyl-4-hydroxy-3-methyl-2-cyclopenten-1-one, MGK 264, Piperonyl butoxide.
010807-00191 | Misty Fire Ant Injector Spray II | Tetramethrin, Esfenvalerate.
032802-00028 | Seed Safe—Turf Care (3.71% Siduron + 10-15-10 Lawn Food) | Siduron.
035571-00001 | Chem Pro Algae Control Ed Liquid | Poly(oxy-1,2-ethanediyl(dimethylimino)-1,2-ethanediyl(dimethylimino)-1,2-ethanediyl dichloride).
047000-00085 | Chem-Tech Dy-Sect Spray | d-trans-Chrysanthemum monocarboxylic ester of dl-2-allyl-4-hydroxy-3-methyl-2-cyclopenten-1-one, Permethrin.
047000-00088 | CT-250 | Piperonyl butoxide, Pyrethrins, Permethrin.
055137-00001 | Bio/Tec 112 | Poly(oxy-1,2-ethanediyl(dimethylimino)-1,2-ethanediyl(dimethylimino)-1,2-ethanediyl dichloride).
060061-00009 | Wolman Wood Preservative with Water Repellent Clear | Zinc naphthenate, Diiodomethyl p-tolyl sulfone.
060061-00016 | No. 00 Ready to Use Copper Treat | Copper naphthenate.
061842-00012 | Polyquat | Poly(oxy-1,2-ethanediyl(dimethylimino)-1,2-ethanediyl(dimethylimino)-1,2-ethanediyl dichloride).
062719-00263 | Lawn Fertilizer Plus | Clopyralid.
| Confront Weed Control | Triclopyr, triethylamine salt.
066806-00001 | MB-507 | Poly(oxy-1,2-ethanediyl(dimethylimino)-1,2-ethanediyl(dimethylimino)-1,2-ethanediyl dichloride).
067360-00003 | Intercide TJP | Tributyltin oxide.
075613-00001 | Stormoellen A/S—Stalosan F | Copper sulfate pentahydrate.
081880-00020 | MON 12036 Herbicide | Halosulfuron-methyl.
AR020001 | Goal 2XL Herbicide | Gas cartridge (as a device for burrowing animal control) Oxyfluorfen.
AR940005 | Lorsban 4E-HF | Chlorpyrifos.
AR960009 | Goal (R) 2XL Herbicide | Oxyfluorfen.
AZ020002 | Kerb 50W Herbicide in WSP | Propyzamide.
AZ020010 | Kerb 50W Herbicide in WSP | Propyzamide.
AZ050005 | Kerb 50W Herbicide in WSP | Propyzamide.
CA000014 | Visor 2E Herbicide | Thiazopyr.
CA010017 | Visor 2E Herbicide | Thiazopyr.
CA020010 | Success | Spinosad.
CA020016 | GF120 Fruit Fly Bait | Spinosad.
CA040020 | Kerb | Propyzamide.
CA040021 | Visor*2E | Thiazopyr.
CA790002 | Kerb 50W Selective Herbicide | Propyzamide.
CA950008 | Goal 1.6E Herbicide | Oxyfluorfen.
CA950014 | Lorsban4E | Chlorpyrifos.
CA960019 | Goal (R) 2XL Herbicide | Oxyfluorfen.
CA960020 | Goal (R) 2XL Herbicide | Oxyfluorfen.
CA960021 | Goal (R) 2XL Herbicide | Oxyfluorfen.
CA960022 | Goal (R) 2XL Herbicide | Oxyfluorfen.
CA960023 | Goal (R) 2XL Herbicide | Oxyfluorfen.
CA960026 | Goal (R) 2XL Herbicide | Oxyfluorfen.
CA960028 | Goal (R) 2XL Herbicide | Oxyfluorfen.
CA970026 | Goal (R) 2XL Herbicide | Oxyfluorfen.
CA990007 | Visor 2E Herbicide | Thiazopyr.
CA990008 | Visor 2E Herbicide | Thiazopyr.
CT020003 | Goal 2XL Herbicide | Oxyfluorfen.
DE930004 | Lorsban 4EHF | Chlorpyrifos.
FL990010 | Visor 2E Herbicide | Thiazopyr.
GA980001 | Tracer | Spinosad.
HI020001 | Goal 2XL Herbicide | Oxyfluorfen.
IA080001 | GF2017 | Nitrapyrin.
ID910016 | Kerb 50W Herbicide in WSP | Propyzamide.
KY040001 | Strongarm | Diclosulam.
LA020001 | Goal 2XL Herbicide | Gas cartridge (as a device for burrowing animal control) Oxyfluorfen.
LA020007 | Goal 2XL | Oxyfluorfen.
LA060011 | Intrepid 2F | Methoxyfenozide.
LA960012 | Goal (R) 2XL Herbicide | Oxyfluorfen.
MI940001 | Lorsban 4E-HF | Chlorpyrifos.
MI970002 | Goal (R) 2XL Herbicide | Oxyfluorfen.
MN960006 | Goal (R) 2XL Herbicide | Oxyfluorfen.
MO040004 | Lorsban4E | Chlorpyrifos.
MS000010 | Goal 2XL Herbicide | Oxyfluorfen.
MS010012 | Glyphomax | Glyphosateisopropylammonium.
MS020003 | Goal 2XL Herbicide | Oxyfluorfen.
MS050001 | Glyphomax XRT | Glyphosateisopropylammonium.
MS050002 | Glypro | Glyphosateisopropylammonium.
MS960015 | Goal (R) 2XL Herbicide | Oxyfluorfen.
MT960003 | Goal (R) 2XL Herbicide | Oxyfluorfen.
NC020003 | Goal 2XL Herbicide | Oxyfluorfen.
NC960005 | Goal (R) 2XL Herbicide | Oxyfluorfen.
NC960006 | Goal (R) 2XL Herbicide | Oxyfluorfen.
NC970004 | Tracer | Spinosad.
NC990007 | Goal (R) 2XL Herbicide | Oxyfluorfen.
ND010005 | NAF545 | Glyphosateisopropylammonium.
ND020006 | Goal 2XL Herbicide | Gas cartridge (as a device for burrowing animal control) Oxyfluorfen.
ND020007 | Goal 2XL Herbicide | Gas cartridge (as a device for burrowing animal control) Oxyfluorfen.
ND050008 | Durango | Glyphosate-isopropylammonium.
ND960005 | Goal (R) 2XL Herbicide | Oxyfluorfen.
ND980001 | Goal (R) 2XL Herbicide | Oxyfluorfen.
NJ010001 | Spintor 2SC | Spinosad.
NV940002 | Lorsban 4E-HF | Chlorpyrifos.
NV990007 | Goal (R) 2XL Herbicide | Oxyfluorfen.
NY060002 | Garlon 3A | Triclopyr, triethylamine salt.
NY080008 | Radiant SC | Spinetoram (minor component (4-methyl)).
|  | Spinetoram (major component (4,5-dihydro)).
NY080009 | Delegate WG | Spinetoram (minor component (4-methyl)).
|  | Spinetoram (major component (4,5-dihydro)).
OR940027 | Lorsban 4E-HF | Chlorpyrifos.
OR960037 | Goal (R) 2XL Herbicide | Oxyfluorfen.
OR970008 | Goal (R) 2XL Herbicide | Oxyfluorfen.
PA010003 | Spintor 2SC | Spinosad.
SC000001 | Telone II | Telone.
SC970005 | Tracer | Spinosad.
SD010002 | Goal 2XL Herbicide | Oxyfluorfen.
SD960006 | Goal (R) 2XL Herbicide | Oxyfluorfen.
TN060005 | Telone II | Telone.
TN990002 | Tracer | Spinosad.
TX000002 | Visor 2E Herbicide | Thiazopyr.
TX040023 | Lock-On | Chlorpyrifos.
VA020002 | Spintor 2SC | Spinosad.
WA000010 | Lorsban-4E | Chlorpyrifos.
WA970024 | Goal (R) 2XL Herbicide | Oxyfluorfen.
WI030005 | Lorsban-4E | Chlorpyrifos.
WV010001 | Spintor 2SC | Spinosad.

Table 2—Registrations With Pending Requests for Cancellation Due to Non-Payment of Maintenance Fees
Registration No. | Product name | Chemical name
002724-00621 | Speer Py-Perm Aqueous Insect Killer #4 | Permethrin; Pyrethrins; Piperonyl butoxide.
010324-00100 | Maquat MC1416-255T | Alkyl* dimethyl benzyl ammonium chloride; Tributyltin oxide.
010324-00101 | Microbiocide T-40 | Alkyl* dimethyl benzyl ammonium chloride; Tributyltin oxide.
083504-00003 | Polyquat MUP | Poly(oxyethylene(dimethylimino)ethylene (dimethylimino)ethylene dichloride).
ID970015 | Comite Agricultural Miticide | Propargite.
OR080004 | Comite Agricultural Miticide | Propargite.
OR080005 | Comite Agricultural Miticide | Propargite.
OR080006 | Dimilin 2L | Diflubenzuron.
OR080007 | Comite Agricultural Miticide | Propargite.
OR080008 | Dimilin 2L | Diflubenzuron.
OR080009 | Comite Agricultural Miticide | Propargite.
OR080011 | Comite Agricultural Miticide | Propargite.
OR080012 | Comite | Propargite.

Table 3 of this unit includes the names and addresses of record for all registrants of the products in Tables 1 and 2 of this unit, in sequence by EPA company number. This number corresponds to the first part of the EPA registration numbers of the products listed in this unit.

Table 3—Registrants Requesting Voluntary Cancellation
EPA Company No. | Company name and address
56 | Eaton JT & Company Inc., 1393 E. Highland Rd., Twinsburg, OH 44087.
279 | FMC Corp., Agricultural Products Group, Attn: Michael C. Zucker, 1735 Market St., RM. 1978, Philadelphia, PA 19103.
402 | Hill Manufacturing Co., Inc., 1500 Jonesboro Rd., SE., Atlanta, GA 30315.
577 | The Sherwin-Williams Co., 101 Prospect Ave., Cleveland, OH 44115.
707; AR020001 | Rohm & Haas Co., 100 Independence Mall West, Philadelphia, PA 19106.
748 | PPG Industries, Inc., 4325 Rosanna Drive, Allison Park, PA 15101.
1706 | Nalco Company, 1601 West Diehl Road, Naperville, IL 60563.
2724 | Wellmark International—D/B/A Central Life Sciences, 1501 E. Woodfield Rd., Suite 200 W., Schaumburg, IL 60173.
2749 | Aceto Agricultural Chemicals Corp., 4 Tri Harbor Court, Port Washington, NY 11050.
5481 | Amvac Chemical Corporation, 4695 MacArthur Court, Suite 1200, Newport Beach, CA 92660-1706.
10088 | Athea Laboratories Inc., P.O. Box 240014, Milwaukee, WI 53224.
10324 | Mason Chemical Co, 721 W Algonquin Rd., Arlington Heights, IL 60005.
10807 | Amrep, Inc., 990 Industrial Park Drive, Marietta, GA 30062.
32802 | Gro Tec, Inc., D/B/A Howard Johnson's Enterprises Inc., Agent: RegWest Company, LLC, 8203 West 20th St., Suite A, Greeley, CO 80634-4696.
35571 | Chem Pro Lab, Inc., 941 W. 190 St., Gardena, CA 90248.
47000 | Chem-Tech, LTD, 4515 Fleur Dr. #303, Des Moines, IA 50321.
55137 | Southwest Engineers, 39478 HWY 190 E, Slidell, LA 70461.
60061 | Kop-Coat, Inc., 436 Seventh Avenue, Pittsburgh, PA 15219.
61842 | Tessenderlo Kerley, Inc., Agent: Pyxis Regulatory Consulting, Inc., 4110 136th Street NW., Gig Harbor, WA 98332.
62719; NY-060002; CA-020016; NY-080009; MS-050001; ND-050008; IA-080001; AR-940005; CA-950014; DE-930004; MI-940001; MO-40004; NV-940002; OR-940027; WA-000010; WI-030005; AZ-020002; AZ-020010; AZ-050005; CA-040020; CA-790002; ID-910016; CA-000014; CA-010017; CA-040021; CA-990007; CA-990008; FL-990010; TX-000002; CA-950008; MS-010012; MS-050002; ND-010005; KY-040001; SC-000001; TN-060005; NJ-010001; PA-010003; VA-020002; WV-010001; NY-080008; CA-020010; GA-980001; NC-970004; SC-970005; TN-990002; TX-040023; AR-960009; CA-960019; CA-960020; CA-960021; CA-960022; CA-960023; CA-960026; CA-960028; CA-970026; CT-020003; LA-020007; LA-960012; MI-970002; MN-960006; MS-000010; MS-960015; MT-960003; NC-020003; NC-960005; NC-960006; NC-990007; ND-960005; ND-980001; NV-990007; OR-960037; OR-970008; SD-010002; SD-960006; WA-970024 | Dow AgroSciences LLC, 9330 Zionsville Rd. #308/2E, Indianapolis, IN 46268-1054.
66806 | Tandem Technologies International, P.O. Box 1125, Carrollton, GA 30112.
67360 | Ackros Chemicals, Inc., Agent: Technology Sciences Group Inc., 1150 18th St. NW., Suite 1000, Washington DC 20036.
75613 | Stormollen A/S, Agent: Vitfoss USA, D/B/A Kongskilde, Industries, Inc., 19500 N. 1425 East Road, Hudson, IL 61748.
81880 | Canyon Group LLC, c/o Gowan Company, 370 S. Main Street, Yuma, AZ 85364.
83504 | Kerley Trading Inc., P.O. Box 15627, Phoenix, AZ 85060.
AR-020001; HI-020001; LA-020001; MS-020003; ND-020006; ND-020007 | Rohm & Haas Co., 100 Independence Mall West, Philadelphia, PA 19106-2399.
ID970015; OR080004; OR080005; OR080006; OR080007; OR080008; OR080009; OR080010; OR080011; OR080012 | Chemtura Corp., 199 Benson Rd., Middlebury, CT 06749.

III. What is the agency's authority for taking this action?

Section 6(f)(1) of FIFRA provides that a registrant of a pesticide product may at any time request that any of its pesticide registrations be cancelled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 3 of Unit II., have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products which are currently in the United States and which were packaged, labeled, and released for shipment prior to the effective date of the cancellation action. Upon cancellation of the products identified in Tables 1 and 2 of Unit II, the Agency will allow existing stocks provisions as follows:

A. Registrations Listed in Table I of Unit II

The Agency anticipates allowing registrants to sell and distribute existing stocks of these products for 1 year after the publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled products.

B. Registrations Listed in Table 2 of Unit II

The effective date of cancellation will be the date of the cancellation order. The Agency anticipates allowing registrants to sell and distribute existing stocks of these products until January 13, 2013, 1 year after the date on which the maintenance fee was due. Thereafter, registrants will be prohibited from selling or distributing the pesticides identified in Table 2 of Unit II., except for export consistent with FIFRA section 17 or for proper disposal. Persons other than registrants will generally be allowed to sell, distribute, or use existing stocks until such stocks are exhausted, provided that such sale, distribution, or use is consistent with the terms of the previously approved labeling on, or that accompanied, the cancelled products.

List of Subjects

Environmental protection, Pesticides and pests.

Dated: May 30, 2012.
Richard P. Keigwin, Jr.,
Director, Pesticide Re-evaluation Division, Office of Pesticide Programs.

[FR Doc. 2012-14422 Filed 6-12-12; 8:45 am]

BILLING CODE 6560-50-P